DEPARTMENT OF AGRICULTURE

Food and Nutrition Service

Agency Information Collection Activities: Proposed Collection; Comment Request Food Stamp Program Quality Control Review Schedule

AGENCY: Food and Nutrition Service, USDA.

ACTION: Notice.

SUMMARY: As required by the Paperwork Reduction Act of 1995, this notice invites the general public and other public agencies to comment on the proposed information collection of Form FNS-380-1, Food Stamp Program Quality Control Review Schedule. The proposed collection is a revision of a collection currently approved under OMB No. 0584-0299.

DATES: Written comments must be submitted on or before June 2, 2006.

ADDRESSES: Comments are invited on (a) whether the proposed collection of information is necessary for the proper performance of the function of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Send comments and requests for copies of this information collection to Daniel Wilusz, Branch Chief, Quality Control Branch, Program and Accountability Division, Food and Nutrition Service, U.S. Department of Agriculture, 3101 Park Center Drive, Room 822, Alexandria, Virginia 22302. You may fax comments to us at (703) 305-0928. You may also download an electronic version of this notice at http://www.fns.usda.gov/fsp/rules/Regulations/default.htm and comment via e-mail at Daniel.Wilusz@fns.usda.gov.

All responses to this notice will be included in the request for OMB's approval. All comments will also become a matter of public record.

FOR FURTHER INFORMATION CONTACT: Requests for additional information or copies of the information collection form and instruction should be directed to Daniel Wilusz at (703) 305-2460.

SUPPLEMENTARY INFORMATION: Title: Quality Control Review Schedule.

OMB Number: 0584-0299.

Form Number: FNS 380-1.

Expiration Date: August 31, 2006.

Type of Request: Revision of a currently approved collection.

Abstract: The Form FNS-380-1, Food Stamp Program Quality Control Review Schedule, collects quality control (QC) and household characteristics data. The information needed to complete this form is obtained from the Food Stamp case record and State quality control findings. The information is used to monitor and reduce errors, develop policy strategies, and analyze household characteristic data. We estimate that it takes 1.05 hours per response and .0236 hours per record for recordkeeping to complete the form.

The reporting and recordkeeping burden associated with the completion of the FNS 380-1 is being increased from 58,729 hours to 61,352 hours. This is a 2,623 hour increase in the current burden that is a result of a change in the number of cases selected from 54,703 to 57,146. Case selection is impacted by the State agencies' monthly participation rate.

Affected Public: Individuals or households and State or local governments.

Estimated Number of Respondents: 53 State agencies.

Estimated Total Number of Responses Per Year: 57,146.

Estimated Hours Per Response: 1.05 Hours.

Total Annual Reporting Burden: 60,003 Hours.

Estimated Number of Recordkeepers: 57,146.

Estimated Hours Per Recordkeeper: 0.0236 Hours.

Total Annual Record Keeping Burden: 1,349 Hours.

Total Annual Reporting and Recordkeeping Burden: 61,352 Hours.

Dated: March 27, 2006.
Roberto Salazar,
Administrator, Food and Nutrition Service.

[FR Doc. E6-4728 Filed 3-31-06; 8:45 am]

BILLING CODE 3410-30-P